DEPARTMENT OF HOMELAND SECURITY

Coast Guard

[Docket No. USCG-2008-0035]

Proposed Expansion of the Cove Point Facility, Cove Point, MD: Draft Supplemental Environmental Assessment

AGENCY: Coast Guard, DHS.

ACTION: Notice of availability and request for comments.

SUMMARY: The Coast Guard announces the availability of a draft supplemental Environmental Assessment (EA) for the proposed issuance of a Letter of Recommendation (LOR) on the suitability of the waterway for the expansion of the Cove Point LNG facility for Dominion Cove Point LNG, LP, in Cove Point, MD. The Coast Guard requests public comments on the draft supplemental EA.

DATES: Comments and related material must reach the Docket Management Facility on or before April 14, 2008.

ADDRESSES: You may submit comments identified by Coast Guard docket number USCG-2008-0035 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Docket Management Facility (M-30), U.S. Department of Transportation, Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this notice or the supplemental Environmental Assessment, call Lieutenant Commander Rogers Henderson, Coast Guard, telephone 202-372-1411 or Mr. Ken Smith, Coast Guard, telephone 202-372-1413. If you have questions on viewing or submitting material to the docket, call Renee V. Wright, Program Manager, Docket Operations, telephone 202-366-9826.

SUPPLEMENTARY INFORMATION:

Public Participation and Request for Comments

We encourage you to submit comments or other related material on the draft supplemental Environmental Assessment (EA). All comments received will be posted, without change, to http://www.regulations.gov and will include any personal information you have provided. We have an agreement with the Department of Transportation (DOT) to use their Docket Management Facility. Please see DOT's “Privacy Act” paragraph below.

Submitting comments: If you submit a comment, please include the docket number for this notice (USCG-2008-0035), and give the reason for each comment. You may submit your comments and material by electronic means, mail, fax, or delivery to the Federal Docket Management Facility at the address under ADDRESSES; but please submit your comments and material by only one means. We recommend that you include your name and a mailing address, an e-mail address, or a phone number in the body of your document so that we can contact you if we have questions regarding your submission. For example, we may ask you to resubmit your comment if we are not able to read your original submission. If you submit them by mail or delivery, submit them in an unbound format, no larger than 81/2 by 11 inches, suitable for copying and electronic filing. If you submit them by mail and would like to know that they reach the Facility, please enclose a stamped, self-addressed postcard or envelop. We will consider all comments and material received during the comment period for the draft supplemental EA.

Viewing the comments and draft supplemental EA: To view the comments and draft supplemental EA, go to http://www.regulations.gov at any time. Enter the docket number for this rulemaking (USCG-2008-0035) in the box under “Search”, and click go. You may also visit the Docket Management Facility in Room W12-140 on the ground floor of the DOT West Building, 1200 New Jersey Avenue, SE., Washington, DC 30590, between 9 a.m. and 5 p.m., Monday through Friday, except Federal Holidays. The draft supplemental EA is also available at public libraries in Maryland (P.D. Brown Memorial Library, Accokeek Library, Potomac Library, La Plata Library, Calvert Library, Southern Branch, Prince Frederick Branch, Fairview Branch and Twin Beaches Branch, Surratts-Clinton Library, Upper Marlboro Library, and the Public Documents Reference Library) and at the Loudoun County Public Library in Ashburn, VA.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Proposed Action

On August 8, 2005, the Federal Energy Regulatory Commission (FERC) requested Dominion Cove Point, LP, to prepare a Waterway Suitability Assessment (WSA) for the proposed Cove Point LNG Expansion Project to be submitted to the United States Coast Guard. The purpose of the WSA was to identify credible security threats and safety hazards associated with increased LNG marine transportation in the Chesapeake Bay and identify appropriate risk management measures. The Coast Guard Captain of the Port, Baltimore, and the Captain of the Port, Hampton Roads, received the WSA from Dominion Cove Point on January 17, 2006. The conclusions of the WSA were included in the Federal Register on February 14, 2006 (71 FR 7791). The Coast Guard solicited public comments on the WSA to consider when preparing preliminary recommendations to FERC for inclusion in their final Environmental Impact Statement (FEIS) on the Cove Point Expansion Project, which was completed April 2006, regarding the suitability of the Chesapeake Bay for the increased LNG vessel traffic. The FEIS was prepared to satisfy the requirements of the National Environmental Policy Act (NEPA). The FEIS was intended to evaluate all foreseeable environmental impacts of the proposed Cove Point LNG Expansion Project including, but not limited to, possible environmental impacts from USCG issuance of the LOR on the suitability of the waterway for LNG vessel traffic. The Coast Guard later discovered that there were issues associated with issuance of the LOR that were not fully addressed in the FEIS. The applicant was notified of those issues and additional information was requested from the applicant. These issues were quickly addressed by additional information the applicant submitted to the Coast Guard. The Coast Guard assessed the applicant-prepared draft EA that supplements the FERC's final EIS for the Cove Point LNG Expansion Project. Based on Cove Point's follow-up research, analysis, and proposed mitigation measures provided to the Coast Guard to address issues needed to support the LOR, the Coast Guard has preliminarily concluded that the additional LNG vessel traffic associated with the Cove Point LNG Expansion Project does not pose an undue or significant environmental hazard to the environment for the LNG vessel transit route covered by our proposed LOR.

The Coast Guard will take into consideration the results of the Cove Point assessment and public comments received when making its final conclusion on whether to adopt the proffered draft applicant-prepared supplemental EA and issue a Finding of No Significant Impact. To make this decision, the Coast Guard will use comments received to further assess the possible impacts on endangered species, cultural resources, essential fish habitat issues, general environmental effects, and the other public interest factors. The results will also be considered as the Coast Guard prepares a Letter of Recommendation which will identify what actions and resources are necessary to make the waterway suitable for increased LNG traffic to the Cove Point LNG facility.

Draft Supplemental Environmental Assessment

The Coast Guard has assessed the applicant-prepared draft EA that supplements the FERC's final EIS. See “Viewing the comments and draft supplementary EA” above. The draft supplementary EA identifies and examines the reasonable alternatives and assesses their potential environmental impact.

We are requesting your comments on environmental concerns that you may have related to the draft supplemental EA. We will consider all comments and material received during the comment period.

Dated: March 7, 2008.
J.G Lantz,
Director of Commercial Regulations and Standards.

[FR Doc. E8-4922 Filed 3-12-08; 8:45 am]

BILLING CODE 4910-15-P